DEPARTMENT OF EDUCATION

Overview Information; Race to the Top Fund Assessment Program; Notice Inviting Applications for New Awards for Fiscal Year (FY) 2010

Catalog of Federal Domestic Assistance (CFDA) Numbers: 84.395B (Comprehensive Assessment Systems grants) and 84.395C (High School Course Assessment Programs grants).

Dates:

Applications Available: April 9, 2010.

Deadline for Notice of Intent To Apply: April 29, 2010.

Date of Technical Assistance Meeting for Prospective Applicants: April 22, 2010.

Deadline for Transmittal of Applications: June 23, 2010.

Deadline for Intergovernmental Review: August 23, 2010.

Full Text of Announcement

I. Funding Opportunity Description

Purpose and Overview of Program: Authorized under the American Recovery and Reinvestment Act of 2009 (ARRA), the Race to the Top Fund Assessment Program provides funding to consortia of States to develop assessments that are valid, support and inform instruction, provide accurate information about what students know and can do, and measure student achievement against standards designed to ensure that all students gain the knowledge and skills needed to succeed in college and the workplace. These assessments are intended to play a critical role in educational systems; provide administrators, educators, parents, and students with the data and information needed to continuously improve teaching and learning; and help meet the President's goal of restoring, by 2020, the nation's position as the world leader in college graduates.

Through the Race to the Top Fund Assessment Program, the Department expects to award two categories of grants: (A) Comprehensive Assessment Systems grants, and (B) High School Course Assessment Programs grants. In this notice, we are establishing priorities, requirements, definitions, and selection criteria for each grant category. An eligible applicant (i.e., a consortium of States) may apply for grants in both categories, provided it meets the eligibility requirements for each category. The Department will score and rank applications separately in each grant category. Following is an overview of the two grant categories:

(A) Comprehensive Assessment Systems grants. Over the past decade, State assessment results have brought much-needed visibility to disparities in achievement among different groups of students and helped meet increasing demands for data that can be used to improve teaching and learning. To fully meet the dual needs for accountability and instructional improvement, however, States need assessment systems that are based on standards designed to prepare students for college and the workplace, and that more validly measure student knowledge and skills against the full range of those standards and across the full performance continuum. Further, States need assessment systems that better reflect good instructional practices and support a culture of continuous improvement in education by providing information that can be used in a timely and meaningful manner to determine school and educator effectiveness, identify teacher and principal professional development and support needs, improve programs, and guide instruction.

This grant category supports the development of such assessment systems by consortia of States. Comprehensive Assessment Systems grants provide funding for the development of new assessment systems that measure student knowledge and skills against a common set of college- and career-ready standards (as defined in this notice) in mathematics and English language arts in a way that covers the full range of those standards, elicits complex student demonstrations or applications of knowledge and skills as appropriate, and provides an accurate measure of student achievement across the full performance continuum and an accurate measure of student growth over a full academic year or course. Assessment systems developed with Comprehensive Assessment Systems grants must include one or more summative assessment components in mathematics and in English language arts that are administered at least once during the academic year in grades 3 through 8 and at least once in high school and that produce student achievement data and student growth data (both as defined in this notice) that can be used to determine whether individual students are college- and career-ready (as defined in this notice) or on track to being college- and career-ready (as defined in this notice). In addition, assessment systems developed with Comprehensive Assessment Systems grants must assess all students, including English learners (as defined in this notice) and students with disabilities (as defined in this notice). Finally, assessment systems developed with Comprehensive Assessment Systems grants must produce data (including student achievement data and student growth data) that can be used to inform (a) determinations of school effectiveness; (b) determinations of individual principal and teacher effectiveness for purposes of evaluation; (c) determinations of principal and teacher professional development and support needs; and (d) teaching, learning, and program improvement.

To be eligible for a Comprehensive Assessment Systems grant, an eligible applicant must include at least 15 States, of which at least 5 States must be governing States (as defined in this notice). An eligible applicant receiving a Comprehensive Assessment Systems grant must ensure that the summative assessment components of the assessment system (in both mathematics and English language arts) will be fully implemented statewide in each State in the consortium no later than the 2014-2015 school year.¹ It is the expectation of the Department that States that adopt assessment systems developed with Comprehensive Assessment Systems grants will use assessments in these systems to meet the assessment requirements in Title I of the ESEA.

¹ By requiring that member States fully implement the summative assessment components of the assessment system no later than the 2014-2015 school year, we believe that we are providing an eligible applicant receiving a Comprehensive Assessment Systems grant with an appropriate amount of time to design and develop summative assessments that meet the Absolute Priority and other requirements for this grant category.

In addition to meeting the need for assessment systems that can be used to determine whether students are college- and career-ready, this grant category seeks to ensure that the results from those systems will, in turn, be used meaningfully by institutions of higher education (IHEs). Under this grant category, we intend to promote collaboration and better alignment between public elementary, secondary, and postsecondary education systems by establishing a competitive preference priority for applications that include commitments from public IHEs or IHE systems to participate in the design and development of the consortium's final high school summative assessments and to implement policies that exempt from remedial courses and place into credit-bearing college courses students who meet the consortium-adopted achievement standard (as defined in this notice) for those assessments. An application that addresses this priority will receive competitive preference points based on the extent to which it demonstrates strong commitment from the public IHEs or IHE systems (as evidenced by letters of intent) and on the percentage of direct matriculation students (as defined in this notice) in public IHEs in the States in the consortium who are enrolled in those IHEs or IHE systems.

(B) High School Course Assessment Programs grants. In our nation's high schools, the rigor of courses offered varies and, in many cases, is not sufficient to prepare students for success in college and careers. To promote consistently high levels of rigor in high school courses across a well-rounded curriculum, this grant category supports the development of high school course assessment programs by consortia of States. High School Course Assessment Programs grants provide funding for the development of new assessment programs that cover multiple high school courses (which may include courses in core academic subjects and career and technical education courses) and that include a process for certifying the rigor of the assessments in the assessment program and for ensuring that assessments of courses covering similar content have common expectations of rigor. Each assessment in the assessment program must measure student knowledge and skills against standards from a common set of college- and career-ready standards in subjects for which such a set of standards exists, or otherwise against State or other rigorous standards; and must produce student achievement data and student growth data that can be used to inform (a) determinations of principal and teacher effectiveness and professional development and support needs, and (b) teaching, learning, and program improvement. In addition, assessments in the assessment program must be designed to assess the broadest possible range of students, including English learners and students with disabilities.

To be eligible for a High School Course Assessment Programs grant, an eligible applicant must include at least 5 governing States. An eligible applicant receiving a High School Course Assessment Programs grant must ensure that at least one course assessment developed under the assessment program will be implemented in each State in the consortium no later than the 2013-2014 school year and that all assessments in the assessment program will be operational no later than the 2014-2015 school year.² The Department will not require that assessments developed with High School Course Assessment Programs grants be used to meet the assessment requirements in Title I of the ESEA.

² By requiring that at least one course assessment developed under the assessment program be implemented in each State in the consortium no later than the 2013-2014 school year and that all assessments in the assessment program be operational no later than the 2014-2015 school year, we believe that we are providing an eligible applicant receiving a High School Course Assessment Programs grant with an appropriate amount of time to design and develop course assessment programs that meet the Absolute Priority and other requirements for this grant category.

We believe that States and high schools will use the assessments in these assessment programs as part of coherent high school improvement efforts that include aligned curricula, instruction, and professional development. In that context, these assessments will play important roles in providing teachers, principals, students, and parents with the information they need to determine whether high school courses are sufficiently rigorous to prepare students for success in college and careers, as well as monitor student progress, adjust instruction, and ultimately improve student outcomes. To ensure that these assessment programs help students prepare for and transition to college successfully, we encourage eligible applicants to collaborate with IHEs in their design and development.

Within this grant category, the Department also seeks to promote the development of rigorous assessment programs for particular courses of high school study. To further the administration's goal of improving teaching and learning in the science, technology, engineering, and mathematics (STEM) subjects, we are establishing a competitive preference priority for applications that include a high-quality plan to develop, within the grant period and with input from one or more four-year degree-granting IHEs, assessments for high school courses that comprise a rigorous course of study designed to prepare high school students for postsecondary study and careers in the STEM fields. To help improve outcomes in career and technical education, we are also establishing a second competitive preference priority for applications that include a high-quality plan to develop, within the grant period and with relevant business community participation and support, assessments for high school courses that comprise a rigorous course of study in career and technical education that is designed to prepare high school students for success on technical certification examinations or for postsecondary education or employment.

As mentioned earlier, the Department supports the development, under both grant categories in this competition, of common assessments by consortia of States. We believe that States working together in consortia benefit from increased assessment resources and expertise and, thus, can develop assessments that are of higher quality than assessments developed by an individual State working on its own. In addition, bringing States together in consortia will improve the efficiency and cost-effectiveness of projects funded under this competition and ensure that the assessments that this competition supports are developed for as many States as possible as quickly as possible. Finally, the development of common assessments will enable the production of comparable data that can be used to identify and promote effective instructional strategies and practices more reliably across States.

In addition, we are requiring that eligible applicants receiving awards under either category in this competition develop assessment items and produce student data in a manner that is consistent with standards for interoperability, and that they make all assessment content (i.e., assessments and assessment items) developed with funds from this competition freely available to States, technology platform providers, or others that request it for purposes of administering assessments, consistent with States' needs and with consortium or State requirements for test or item security. We believe that these requirements will ensure that assessment content developed with funds from this competition is widely available, including to States that are not part of consortia receiving funds under this competition as well as to commercial organizations wishing to further develop, extend, and incorporate the content into assessment products intended for State use. Moreover, we believe that making assessment content freely available will spur innovation in assessment technology and enable technology providers to compete for States' business on the basis of their developing efficient, effective, economical, and innovative assessment platforms.

The Department recognizes that there are assessment needs—particularly for alternate assessments based on alternate academic achievement standards and assessments of English language proficiency—that we do not attempt to address through this competition. We wish to note that we have plans to address these needs in other ways. For students with the most significant cognitive disabilities, alternate assessments based on alternate academic achievement standards are critical components of a complete assessment system. It is the Department's intent to support States in developing new alternate assessments based on alternate achievement standards, in coordination with this Race to the Top Assessment competition, through a separate competition that will be administered by the Department's Office of Special Education and Rehabilitative Services; we intend to issue a notice inviting applications for this program later this year. For English learners, new assessments of English language proficiency are also needed. The Department intends to set aside other funds in its FY 2011 budget to support State efforts to develop assessments of English language proficiency that are aligned with the college- and career-ready standards in English language arts currently being developed and adopted.

For additional information on the Race to the Top Fund Assessment Program, see http://www2.ed.gov/programs/racetothetop-assessment/index.html.

Note about Public and Expert Input Meetings: The design of this Race to the Top Fund Assessment Program competition has benefited significantly from a series of public and expert input meetings held by the Department. At these meetings, invited experts and members of the public provided input in response to questions, published in the Federal Register (see 74 FR 54795-54800 and 69081-69084), in the following programmatic areas: General and technical assessment issues, technology and innovation in assessment, high school assessments, assessing English learners, assessing students with disabilities, consortium and project management, and procurement. For information about these meetings, including transcripts and presentation materials, as well as other written input provided for this program, see http://www2.ed.gov/programs/racetothetop-assessment/index.html.

A. Comprehensive Assessment Systems:

Priorities: For the Comprehensive Assessment Systems grant category, we are establishing the following priorities for the FY 2010 grant competition only in accordance with section 437(d)(1) of the General Education Provisions Act (GEPA), 20 U.S.C. 1232(d)(1).

Absolute Priority: This priority is an absolute priority. Under 34 CFR 75.105(c)(3), we consider only applications that meet this priority. An eligible applicant should address this priority throughout the application narrative.

The priority is:

Comprehensive Assessment Systems Measuring Student Achievement Against Common College- and Career-Ready Standards. Under this priority, the Department supports the development of new assessment systems that will be used by multiple States; are valid, reliable, and fair for their intended purposes and for all student subgroups; and measure student knowledge and skills against a common set of college- and career-ready standards in mathematics and English language arts. To meet this absolute priority, an eligible applicant must demonstrate in its application that it will develop and implement an assessment system that—

(a) Measures student knowledge and skills against a common set of college- and career-ready standards (as defined in this notice) in mathematics and English language arts in a way that—

(i) Covers the full range of those standards, including standards against which student achievement has traditionally been difficult to measure;

(ii) As appropriate, elicits complex student demonstrations or applications of knowledge and skills;

(iii) Provides an accurate measure of student achievement across the full performance continuum, including for high- and low-achieving students; and

(iv) Provides an accurate measure of student growth over a full academic year or course;

(b) Consists of assessment components in mathematics and in English language arts that include, for each subject, one or more summative assessment components that—

(i) Are administered at least once during the academic year in grades 3 through 8 and at least once in high school; and

(ii) Produce student achievement data and student growth data (both as defined in this notice) that can be used to determine whether individual students are college- and career-ready (as defined in this notice) or on track to being college- and career-ready (as defined in this notice);

(c) Assesses all students, including English learners (as defined in this notice) and students with disabilities (as defined in this notice); and

(d) Produces data, including student achievement data and student growth data, that can be used to inform—

(i) Determinations of school effectiveness for purposes of accountability under Title I of the ESEA;

(ii) Determinations of individual principal and teacher effectiveness for purposes of evaluation;

(iii) Determinations of principal and teacher professional development and support needs; and

(iv) Teaching, learning, and program improvement.

Competitive Preference Priority: This priority is a competitive preference priority. Consistent with 34 CFR 75.105(c)(2)(i), we award additional points to an application as specified in the priority.

The priority is:

Collaboration and Alignment with Higher Education. The Department gives eligible applicants competitive preference points based on the extent to which they have promoted collaboration and alignment between member States' public elementary and secondary education systems and their public IHEs (as defined in section 101(a) of the Higher Education Act of 1965, as amended (HEA)) or systems of those IHEs. Eligible applicants addressing this priority must provide, for each IHE or IHE system, a letter of intent that—

(a) Commits the IHE or IHE system to participate with the consortium in the design and development of the consortium's final high school summative assessments in mathematics and English language arts in order to ensure that the assessments measure college readiness;

(b) Commits the IHE or IHE system to implement policies, once the final high school summative assessments are implemented, that exempt from remedial courses and place into credit-bearing college courses any student who meets the consortium-adopted achievement standard (as defined in this notice) for each assessment and any other placement requirement established by the IHE or IHE system; and

(c) Is signed by the State's higher education executive officer (if the State has one) and the president or head of each participating IHE or IHE system.

All letters of intent must provide the total number of direct matriculation students (as defined in this notice) in the partner IHE or IHE system in the 2008-2009 school year. An eligible applicant must also provide the total number of direct matriculation students (as defined in this notice) in public IHEs in the consortium's member States.

The Department will award up to 20 competitive preference points based on the strength of commitment demonstrated in the letters of intent and on the percentage of direct matriculation students in public IHEs in the member States who are direct matriculation students in the partner IHEs or IHE systems. To receive full competitive preference points under this priority, eligible applicants must provide letters of intent that demonstrate strong commitment from each partner IHE or IHE system and that represent at least 30 percent of direct matriculation students in public IHEs in member States. No points will be awarded for letters of intent that represent fewer than 10 percent of direct matriculation students in public IHEs in member States.

Requirements: For the Comprehensive Assessment Systems grant category, we are establishing the following requirements for the FY 2010 grant competition only in accordance with section 437(d)(1) of GEPA, 20 U.S.C. 1232(d)(1).

Eligible Applicants: Eligible applicants are consortia of States.³

³ Consistent with section 14013 of the ARRA, the term “State” means each of the 50 States, the District of Columbia, and the Commonwealth of Puerto Rico.

Eligibility Requirements:

To be eligible to receive an award under this category, an eligible applicant must—

1. Include a minimum of 15 States, of which at least 5 States must be governing States (as defined in this notice);

2. Identify in its application a proposed project management partner and provide an assurance that the proposed project management partner is not partnered with any other eligible applicant applying for an award under this category;⁴ and

⁴ In selecting a proposed project management partner, an eligible applicant must comply with the requirements for procurement in 34 CFR 80.36. Due to the limited time period that eligible applicants have to select a proposed project management partner, we remind eligible applicants that they may, under 34 CFR 80.36, use informal procedures to select a proposed contractor for this purpose. For example, 34 CFR 80.36(d)(1) authorizes simple informal procedures to select contractors under the simplified acquisition threshold of $100,000; the regulations only require that the eligible applicant request offers from an adequate number of qualified sources. In addition, even if the eligible applicant expects that the proposed project management partner would cost more than $100,000, the regulations recognize special cases where a contractor must be selected within a very limited time period. Again, the eligible applicant must request proposals from an adequate number of qualified sources and select the contractor whose proposal is most advantageous to the program, considering price and other selection factors. In these situations, if informal solicitation does not result in an adequate number of proposals, the eligible applicant may select a single bidder so long as the eligible applicant documents the facts that formed the basis for its decision. 34 CFR 80.36(d)(1), (d)(3), and (d)(4).

3. Submit assurances from each State in the consortium that, to remain in the consortium, the State will adopt a common set of college- and career-ready standards (as defined in this notice) no later than December 31, 2011, and common achievement standards (as defined in this notice) no later than the 2014-2015 school year.

Application Requirements:

An eligible applicant's application must—

1. Indicate, consistent with 34 CFR 75.128, whether—

(a) One member of the consortium is applying for a grant on behalf of the consortium; or

(b) The consortium has established itself as a separate eligible legal entity and is applying for a grant on its own behalf;

2. Be signed by—

(a) If one member of the consortium is applying for a grant on behalf of the consortium, the Governor, the State's chief school officer, and, if applicable, the president of the State board of education from that State; or

(b) If the consortium has established itself as a separate eligible legal entity and is applying for a grant on its own behalf, a representative of the consortium;

3. Include an assurance that—

(a) A competitive procurement process based on a “best value” selection ⁵ will be used for tasks related to assessment design and development; and

⁵ For example, section 2.101 of the Federal Acquisition Regulation (FAR) defines “best value” as the expected outcome of an acquisition that, in the Government's estimation, provides the greatest overall benefit in response to the requirement.

(b) All applicable Federal procurement requirements, including the requirements of 34 CFR 80.36, will be met;

4. Include, consistent with 34 CFR 75.128, for each State in the consortium, copies of all Memoranda of Understanding or other binding agreements. These binding agreements must—

(a) Detail the activities that members of the consortium will perform;

(b) Bind each member of the consortium to every statement and assurance made in the application;

(c) Include an assurance, signed by the State's chief procurement official (or designee), that the State has reviewed its applicable procurement rules and determined that it may participate in and make procurements through the consortium; and

(d) Be signed by the Governor, the State's chief school officer, and, if applicable, the president of the State board of education;

5. Include—

(a) An executive summary of the eligible applicant's proposed project;

(b) A theory of action that describes in detail the causal relationships between specific actions or strategies in the eligible applicant's proposed project and its desired outcomes for the proposed project, including improvements in student achievement and college- and career-readiness;

(c) A plan for designing and developing the proposed assessment system;

(d) A plan for research and evaluation of the proposed assessment system;

(e) A plan for implementing the proposed assessment system; and

(f) A project management plan (including a workplan and timeline); and

6. Include a budget that—

(a) Describes in detail how funds from this grant category and other resources will be used to design, develop, implement, and evaluate the proposed assessment system;

(b) Identifies Level 1 budget modules (as defined in this notice) that do not exceed $150 million in total; and

(c) Identifies any Level 2 budget modules (as defined in this notice) that do not exceed $10 million each.

Program Requirements

An eligible applicant awarded a grant under this category must—

1. Evaluate the validity, reliability, and fairness of the summative assessment components of the assessment system, and make available through formal mechanisms (e.g., peer-reviewed journals) and informal mechanisms (e.g., newsletters), and in print and electronically, the results of any evaluations it conducts;

2. Actively participate in any applicable technical assistance activities conducted or facilitated by the Department or its designees, including periodic expert reviews, collaboration with other consortia that receive funds under this program, and other activities as determined by the Department;

3. Work with the Department to develop a strategy to make student-level data that result from the assessment system available on an ongoing basis for research, including for prospective linking, validity, and program improvement studies; ⁶

⁶ Eligible applicants awarded a grant under this program must comply with the Family Educational Rights and Privacy Act (FERPA) and 34 CFR Part 99, as well as State and local requirements regarding privacy.

4. Ensure that the summative assessment components of the assessment system in both mathematics and English language arts are fully implemented statewide by each State in the consortium no later than the 2014-2015 school year;

5. Maximize the interoperability of assessments across technology platforms and the ability for States to switch their assessments from one technology platform to another by—

(a) Developing all assessment items to an industry-recognized open-licensed interoperability standard that is approved by the Department during the grant period, without non-standard extensions or additions;⁷ and

⁷ We encourage grantees under this competition to work during the grant period with the Department and the entities that set interoperability standards to extend those standards in order to make them more functional for assessment materials.

(b) Producing all student-level data in a manner consistent with an industry-recognized open-licensed interoperability standard that is approved by the Department during the grant period;

6. Unless otherwise protected by law or agreement as proprietary information, make any assessment content (i.e., assessments and assessment items) developed with funds from this grant category freely available to States, technology platform providers, and others that request it for purposes of administering assessments, provided they comply with consortium or State requirements for test or item security;

7. Use technology to the maximum extent appropriate to develop, administer, and score assessments and report assessment results;

8. Use funds from this grant category only for the design, development, and evaluation of the assessment system. An eligible applicant awarded a grant under this category may not use funds for the administration of operational assessments;

9. Comply with the requirements of 34 CFR 75.129, which specifies that—

(a) The applicant (i.e., the State applying on behalf of the consortium, or the consortium if established as a separate legal entity and applying on its own behalf) is legally responsible for—

(i) The use of all grant funds;

(ii) Ensuring that the project is carried out by the consortium in accordance with Federal requirements; and

(iii) Ensuring that indirect cost funds are determined as required under 34 CFR 75.564(e); and

(b) Each member of the consortium is legally responsible to—

(i) Carry out the activities it agrees to perform; and

(ii) Use any grant funds it receives under the consortium's Memoranda of Understanding or other binding agreements in accordance with Federal requirements that apply to the grant;

10. Obtain approval from the Department of any third-party organization or entity that is responsible for managing funds received under this grant category; and

11. Identify any current assessment requirements in Title I of the ESEA that would need to be waived in order for member States to fully implement the proposed assessment system.

B. High School Course Assessment Programs:

Priorities: For the High School Course Assessment Programs grant category, we are establishing the following priorities for the FY 2010 grant competition only in accordance with section 437(d)(1) of GEPA, 20 U.S.C. 1232(d)(1).

Absolute Priority: This priority is an absolute priority. Under 34 CFR 75.105(c)(3), we consider only applications that meet this priority. An eligible applicant should address this priority throughout the application narrative.

The priority is:

High School Course Assessment Programs. Under this priority, the Department supports the development of new and adapted assessments for high school courses that will be used by multiple States and are valid, reliable, and fair for their intended purposes and students. To meet this absolute priority, an eligible applicant must demonstrate in its application that it will develop and implement a high school course assessment program that—

(a) For each course in the assessment program—

(i) Measures student knowledge and skills against standards from a common set of college- and career-ready standards (as defined in this notice) in subjects for which such a set of standards exists, or otherwise against State or other rigorous standards;

(ii) As appropriate, elicits complex student demonstrations or applications of knowledge and skills;

(iii) Produces student achievement data (as defined in this notice) and student growth data (as defined in this notice) over a full academic year or course that can be used to inform—

(A) Determinations of individual principal and teacher effectiveness and professional development and support needs; and

(B) Teaching, learning, and program improvement; and

(iv) Is designed to assess the broadest possible range of students, including English learners (as defined in this notice) and students with disabilities (as defined in this notice);

(b) Includes assessments for multiple courses that will be implemented in each member State at a scale that will enable significant improvements in student achievement outcomes statewide; and

(c) Includes a process for certifying the rigor of each assessment in the assessment program and for ensuring that assessments of courses covering similar content have common expectations of rigor.

Competitive Preference Priorities: These priorities are competitive preference priorities. Consistent with 34 CFR 75.105(c)(2)(i), we award additional points to an application as specified in these priorities.

The priorities are:

1. Focus on Preparing Students for Study in STEM-Related Fields. The Department gives 10 competitive preference points to applications that include a high-quality plan to develop, within the grant period and with input from one or more four-year degree-granting IHEs, assessments for high school courses that comprise a rigorous course of study that is designed to prepare high school students for postsecondary study and careers in the STEM fields, including technology and engineering. Any such course of study may include cross-cutting or interdisciplinary STEM courses (e.g., computer science, information technology, bioengineering) and be designed to address the needs of underrepresented groups.

An eligible applicant addressing this priority must, in addition to addressing the priority throughout the application narrative, provide a separate plan that describes—

(a) The courses for which assessments will be developed;

(b) How the courses comprise a rigorous course of study that is designed to prepare high school students for postsecondary study and careers in the STEM fields; and

(c) How input from one or more four-year degree-granting IHEs will be obtained in developing assessments for the courses.

We will award points to eligible applicants addressing this priority on an “all or nothing” basis (i.e., 10 points or zero points). An eligible applicant may not use the same course of study to address both this priority and Competitive Preference Priority 2 (Focus on Career Readiness and Placement).

2. Focus on Career Readiness and Placement. The Department gives 10 competitive preference points to applications that include a high-quality plan to develop, within the grant period and with relevant business community participation and support, assessments for high school courses that comprise a rigorous course of study in career and technical education that is designed to prepare high school students for success on technical certification examinations or for postsecondary education or employment.

An eligible applicant addressing this priority must, in addition to addressing the priority throughout the application narrative, provide a separate plan that describes—

(a) The courses for which assessments will be developed;

(b) How the courses comprise a rigorous course of study in career and technical education that is designed to prepare high school students for success on technical certification examinations or for postsecondary education or employment; and

(c) How relevant business community participation and support will be obtained in developing assessments for the courses.

We will award points to eligible applicants addressing this priority on an “all or nothing” basis (i.e., 10 points or zero points). An eligible applicant may not use the same course of study to address both this priority and Competitive Preference Priority 1 (Focus on Preparing Students for Study and Careers in STEM-Related Fields).

Requirements: For the High School Course Assessment Programs grant category, we are establishing the following requirements for the FY 2010 grant competition only in accordance with section 437(d)(1) of GEPA, 20 U.S.C. 1232(d)(1).

Eligible Applicants: Eligible applicants are consortia of States.⁸

⁸ Consistent with section 14013 of the ARRA, the term “State” means each of the 50 States, the District of Columbia, and the Commonwealth of Puerto Rico.

Eligibility Requirements:

To be eligible to receive an award under this category, an eligible applicant must—

1. Include a minimum of 5 governing States (as defined in this notice); and

2. Identify in its application a proposed project management partner and provide an assurance that the proposed project management partner is not partnered with any other eligible applicant applying for an award under this category.⁹

⁹ In selecting a proposed project management partner, an eligible applicant must comply with the requirements for procurement in 34 CFR 80.36. Due to the limited time period that eligible applicants have to select a proposed project management partner, we remind eligible applicants that they may, under 34 CFR 80.36, use informal procedures to select a proposed contractor for this purpose. For example, 34 CFR 80.36(d)(1) authorizes simple informal procedures to select contractors under the simplified acquisition threshold of $100,000; the regulations only require that the eligible applicant request offers from an adequate number of qualified sources. In addition, even if the eligible applicant expects that the proposed project management partner would cost more than $100,000, the regulations recognize special cases where a contractor must be selected within a very limited time period. Again, the eligible applicant must request proposals from an adequate number of qualified sources and select the contractor whose proposal is most advantageous to the program, considering price and other selection factors; in these situations, if informal solicitation does not result in an adequate number of proposals, the eligible applicant may select a single bidder so long as the eligible applicant documents the facts that formed the basis for its decision. 34 CFR 80.36(d)(1), (d)(3), and (d)(4).

Application Requirements

An eligible applicant's application must—

1. Indicate, consistent with 34 CFR 75.128, whether—

(a) One member of the consortium is applying for a grant on behalf of the consortium; or

(b) The consortium has established itself as a separate eligible legal entity and is applying for a grant on its own behalf;

2. Be signed by—

(a) If one member of the consortium is applying for a grant on behalf of the consortium, the Governor, the State's chief school officer, and, if applicable, the president of the State board of education from that State; or

(b) If the consortium has established itself as a separate eligible legal entity and is applying for a grant on its own behalf, a representative of the consortium;

3. Include an assurance that—

(a) A competitive procurement process based on a “best value” selection ¹⁰ will be used for tasks related to assessment design and development; and

¹⁰ For example, section 2.101 of the FAR defines “best value” as the expected outcome of an acquisition that, in the Government's estimation, provides the greatest overall benefit in response to the requirement.

(b) All applicable Federal procurement requirements, including the requirements of 34 CFR 80.36, will be met;

4. Include, consistent with 34 CFR 75.128, for each State in the consortium, copies of all Memoranda of Understanding or other binding agreements. These binding agreements must—

(a) Detail the activities that members of the consortium will perform;

(b) Bind each member of the consortium to every statement and assurance made in the application;

(c) Include an assurance, signed by the State's chief procurement official (or designee), that the State has reviewed its applicable procurement rules and determined that it may participate in and make procurements through the consortium; and

(d) Be signed by the Governor, the State's chief school officer, and, if applicable, the president of the State board of education;

5. Include—

(a) An executive summary of the eligible applicant's proposed project;

(b) A theory of action that describes in detail the causal relationships between specific actions or strategies in the eligible applicant's proposed project and its desired outcomes for the proposed project, including improvements in student achievement and college- and career-readiness;

(c) A plan for designing and developing the proposed assessment program;

(d) A plan for research and evaluation of the proposed assessment program;

(e) A plan for implementing the proposed assessment program; and

(f) A project management plan (including a workplan and timeline); and

6. Include a budget that—

(a) Describes in detail how funds from this grant category and other resources will be used to design, develop, implement, and evaluate the proposed assessment program; and

(b) Does not exceed more than $30 million in funds from this grant category.

Program Requirements

An eligible applicant awarded a grant under this category must—

1. Evaluate the validity, reliability, and fairness of the assessments in its high school course assessment program;

2. Actively participate in any applicable technical assistance activities conducted or facilitated by the Department or its designees, including periodic expert reviews, collaboration with other consortia that receive funds under this program, and other activities as determined by the Department;

3. Work with the Department to develop a strategy to make student-level data that result from the assessment program available on an ongoing basis for research, including for prospective linking, validity, and program improvement studies; ¹¹

¹¹ Eligible applicants awarded a grant under this program must comply with FERPA and 34 CFR Part 99, as well as State and local requirements regarding privacy.

4. Ensure that at least one course assessment developed under the high school course assessment program will be implemented in each State in the consortium no later than the 2013-2014 school year and that all assessments in the assessment program will be operational no later than the 2014-2015 school year;

5. To the extent that technology is used, maximize the interoperability of assessments across technology platforms and the ability for States to switch their assessments from one technology platform to another by—

(a) Developing all assessment items to an industry-recognized open-licensed interoperability standard that is approved by the Department during the grant period, without non-standard extensions or additions; ¹² and

¹² We encourage grantees under this competition to work during the grant period with the Department and the entities that set interoperability standards to extend those standards in order to make them more functional for assessment materials.

(b) Producing all student-level data in a manner consistent with an industry-recognized open-licensed interoperability standard that is approved by the Department during the grant period;

6. Unless otherwise protected by law or agreement as proprietary information, make any assessment content (i.e., assessments and assessment items) developed with funds from this grant category freely available to States, technology platform providers, and others that request it for purposes of administering assessments, provided they comply with consortium or State requirements for test or item security;

7. Use funds from this grant category only for the design, development, and evaluation of the assessment program. An eligible applicant awarded a grant under this category may not use funds for the administration of operational assessments;

8. Comply with the requirements of 34 CFR 75.129, which specifies that—

(a) The applicant (i.e., the State applying on behalf of the consortium, or the consortium if established as a separate legal entity and applying on its own behalf) is legally responsible for—

(i) The use of all grant funds;

(ii) Ensuring that the project is carried out by the consortium in accordance with Federal requirements; and

(iii) Ensuring that indirect cost funds are determined as required under 34 CFR 75.564(e); and

(b) Each member of the consortium is legally responsible to—

(i) Carry out the activities it agrees to perform; and

(ii) Use any grant funds it receives under the consortium's Memoranda of Understanding or other binding agreements in accordance with Federal requirements that apply to the grant; and

9. Obtain approval from the Department of any third-party organization or entity that is responsible for managing funds received under this grant category.

C. Definitions: For the Comprehensive Assessment Systems and High School Course Assessment Programs grant categories, we are establishing the following definitions for the FY 2010 grant competition only in accordance with section 437(d)(1) of GEPA, 20 U.S.C. 1232(d)(1).

Accommodations means changes in the administration of an assessment, including but not limited to changes in assessment setting, scheduling, timing, presentation format, response mode, and combinations of these changes, that do not change the construct intended to be measured by the assessment or the meaning of the resulting scores. Accommodations must be used for equity in assessment and not provide advantage to students eligible to receive them.

Achievement standard means the level of student achievement on summative assessments that indicates that (a) for the final high school summative assessments in mathematics or English language arts, a student is college- and career-ready (as defined in this notice); or (b) for summative assessments in mathematics or English language arts at a grade level other than the final high school summative assessments, a student is on track to being college- and career-ready (as defined in this notice). An achievement standard must be determined using empirical evidence over time.

College- and career-ready (or readiness) means, with respect to a student, that the student is prepared for success, without remediation, in credit-bearing entry-level courses in an IHE (as defined in section 101(a) of the HEA), as demonstrated by an assessment score that meets or exceeds the achievement standard (as defined in this notice) for the final high school summative assessment in mathematics or English language arts.

Common set of college- and career-ready standards means a set of academic content standards for grades K-12 that (a) define what a student must know and be able to do at each grade level; (b) if mastered, would ensure that the student is college- and career-ready (as defined in this notice) by the time of high school graduation; and (c) are substantially identical across all States in a consortium. A State may supplement the common set of college- and career-ready standards with additional content standards, provided that the additional standards do not comprise more than 15 percent of the State's total standards for that content area.

Direct matriculation student means a student who entered college as a freshman within two years of graduating from high school.

English learner means a student who is an English learner as that term is defined by the consortium. The consortium must define the term in a manner that is uniform across member States and consistent with section 9101(25) of the ESEA.

Governing State means a State that (a) is a member of only one consortium applying for a grant in the competition category, (b) has an active role in policy decision-making for the consortium, and (c) is committed to using the assessment system or program developed by the consortium.

Level 1 budget module means a budget module for which an eligible applicant is seeking funds under the Comprehensive Assessment Systems grant category that (a) is necessary to delivering operational summative assessments in both mathematics and English language arts no later than school year 2014-2015, or (b) is otherwise necessary to the eligible applicant's proposed project and consistent with the eligible applicant's theory of action.

Level 2 budget module means any budget module for which an eligible applicant is seeking funds under the Comprehensive Assessment Systems grant category other than a Level 1 budget module. An eligible applicant must prioritize Level 2 budget modules in the order of importance to the implementation of the proposed project.

Moderation system means a system for ensuring that human scoring of complex item types, such as extended responses or performance tasks, is accurate, consistent across schools and States, and fair to all students.

On track to being college- and career-ready ¹³ means, with respect to a student, that the student is performing at or above grade level such that the student will be college- and career-ready (as defined in this notice) by the time of high school graduation, as demonstrated by an assessment score that meets or exceeds the achievement standard (as defined in this notice) for the student's grade level on a summative assessment in mathematics or English language arts.

¹³ The term on track to being college- and career-ready is used in place of the term “proficiency” used in section 1111(b)(3) of the ESEA.

Performance level descriptor means a statement or description of a set of knowledge and skills exemplifying a level of performance associated with a standard.

Student achievement data means data regarding an individual student's mastery of tested content standards. Student achievement data from summative assessment components must be reported in a way that can be reliably aggregated across multiple students at the subgroup,¹⁴ classroom, school, LEA, and State levels.

¹⁴ Eligible applicants receiving funds under this competition must aggregate data using the student subgroups in section 1111(b)(3)(C)(xiii) of the ESEA (i.e., by gender, by each major racial and ethnic group, by English proficiency status, by migrant status, by students with disabilities as compared to nondisabled students, and by economically disadvantaged students as compared to students who are not economically disadvantaged, except that such aggregation is not required in a case in which the number of students in a subgroup is insufficient to yield statistically reliable information or the results would reveal personally identifiable information about an individual student). When using the term “subgroup” throughout this notice, we mean these student subgroups.

Student growth data means data regarding the change in student achievement data (as defined in this notice) between two or more points in time. Student growth data from summative assessment components must be reported in a way that can be reliably aggregated across multiple students at the subgroup, classroom, school, LEA, and State levels and over a full academic year or course.

Student with a disability means, for purposes of this competition, a student who has been identified as a student with a disability under the Individuals with Disabilities Education Act, as amended (IDEA), except for a student with a disability who is eligible to participate in alternate assessments based on alternate academic achievement standards consistent with 34 CFR 200.6(a)(2).

Through-course summative assessment means an assessment system component or set of assessment system components that is administered periodically during the academic year. A student's results from through-course summative assessments must be combined to produce the student's total summative assessment score for that academic year.

Waiver of Proposed Rulemaking: Under the Administrative Procedure Act (5 U.S.C. 553), the Department generally offers interested parties the opportunity to comment on proposed priorities, requirements, definitions, and selection criteria. Section 437(d)(1) of GEPA, however, allows the Secretary to exempt from rulemaking requirements regulations governing the first grant competition under a new or substantially revised program authority. This is the first grant competition for the Race to the Top Assessment Program under section 14006 of the ARRA and therefore qualifies for this exemption. In order to ensure timely grant awards, the Secretary has decided to forego public comment on the priorities, requirements, definitions, and selection criteria under section 437(d)(1) of GEPA. (We note that, as discussed earlier, the design of this grant competition has benefited significantly from a series of public and expert input meetings held by the Department.) These priorities, requirements, definitions, and selection criteria will apply to the FY 2010 grant competition only.

Program Authority: American Recovery and Reinvestment Act of 2009, Division A, Section 14006, Public Law 111-5.

Applicable Regulations: The Education Department General Administrative Regulations (EDGAR) in 34 CFR parts 74, 75, 77, 79, 80, 81, 82, 84, 85, 86, 97, 98, and 99.

II. Award Information

Type of Award: Discretionary grants.

Estimated Available Funds: $350,000,000.

Estimated Size of Awards:

A. Comprehensive Assessment Systems: $160,000,000.

B. High School Course Assessment Programs: $30,000,000.

Estimated Number of Awards

A. Comprehensive Assessment Systems: 1-2 awards.

B. High School Course Assessment Programs: 1 award.

Note: The Department is not bound by any estimates in this notice. The Department will determine the number of awards to be made in each grant category based on the quality of applications received consistent with the selection criteria. It will also determine the size of an award made to an eligible applicant based on a review of the eligible applicant's budget. However, with respect to Comprehensive Assessment Systems grants, an eligible applicant may not submit Level 1 budget modules exceeding $150 million in total, and with respect to High School Course Assessment Programs grants, an eligible applicant may not submit a budget exceeding $30 million. Applications requesting budget amounts that exceed these maximum amounts will not be reviewed for funding. An eligible applicant awarded a Comprehensive Assessment Systems grant will receive funding for the Level 1 budget modules identified in its application, and may receive funding for one or more Level 2 budget modules identified in its application if those modules do not exceed the maximum amount of $10 million each and funds are available. The Department will rank and fund separately applications under each grant category. The Department may use any unused funds designated for this competition to make awards in Phase 2 of the Race to the Top Fund Program (CFDA Number 84.395A).

Project Period: Up to 48 months.

III. Application and Submission Information

A. Address to Request Application Package: Prospective applicants can obtain an application package for either grant category in this competition via the Internet or from the Education Publications Center (ED Pubs). To obtain a copy via the Internet, use the following address: http://www2.ed.gov/programs/racetothetop-assessment/index.html. To obtain a copy from ED Pubs, write, fax, or call the following: Education Publications Center, P.O. Box 1398, Jessup, MD 20794-1398. Telephone, toll free: 1-877-433-7827. FAX: (301) 470-1244. If you use a telecommunications device for the deaf (TDD), call, toll free: 1-877-576-7734.

Prospective applicants can also contact ED Pubs at its Web site: http://www.ed.gov/pubs/edpubs.html or at its e-mail address: edpubs@inet.ed.gov.

If requesting an application from ED Pubs, be sure to identify this competition as follows: CFDA Number 84.395B (Comprehensive Assessment Systems grants) or CFDA Number 84.395C (High School Course Assessment Programs grants).

Individuals with disabilities can obtain a copy of the application package in an accessible format (e.g., braille, large print, audiotape, or computer diskette) by contacting the person listed under FOR FURTHER INFORMATION CONTACT in section VI of this notice.

B. Content and Form of Application Submission: Requirements concerning the content of an application, together with the forms an applicant must submit, are in the application package for each grant category in this competition.

Page Limit: The application narrative (Part I.G of the application for each grant category) is where the applicant addresses the selection criteria that reviewers use to evaluate applications. The Department recommends that applicants limit the application narrative for a Comprehensive Assessment Systems grant to no more than 60 total pages, and for a High School Course Assessment Programs grant to no more than 45 total pages, using the following standards:

• A page is 8.5″ × 11″, on one side only, with 1″ margins at the top, bottom, and both sides.

• Each page is numbered.

• Line spacing is set to 1.5 spacing, and the font used is 12 point Times New Roman font.

An applicant must limit the executive summary of its proposed project (Part I.D of the application for each grant category) to no more than two pages using the standards above. We will not read information on any pages that exceed this page limit.

C. Submission Dates and Times:

Applications Available: April 9, 2010.

Deadline for Notice of Intent to Apply: April 29, 2010.

The Department will be able to develop a more efficient process for reviewing grant applications if we have a better understanding of the number of applications we will receive. Therefore, we strongly encourage each prospective applicant to send an e-mail notice of its intent to apply for funding under a grant category in this competition to the e-mail address racetothetop.assessment@ed.gov by April 29, 2010. The notice of intent to apply is optional; an applicant may still submit an application if it has not notified us of its intention to apply.

Date of Technical Assistance Meeting for Prospective Applicants: April 22, 2010.

To assist prospective applicants in preparing an application and to respond to questions, the Department will host a Technical Assistance Meeting for Prospective Applicants on April 22, 2010. Detailed information about this meeting (including the meeting location) will be posted on the Department's Web site at http://www.ed.gov/programs/racetothetop-assessment. Attendance at the meeting is strongly encouraged. Announcements of any other technical assistance opportunities for prospective applicants will also be available at the Web site above.

Deadline for Transmittal of Applications: June 23, 2010.

An applicant must submit an original and one paper copy of its application for either grant category under this competition. An applicant may submit its application by mail or hand delivery. E-mailed applications will not be read. For more information about how to submit an application, please refer to the Other Submission Requirements later in this section.

The Department will not consider an application that does not comply with the deadline requirements.

Individuals with disabilities who need an accommodation or auxiliary aid in connection with the application process should contact the person listed under FOR FURTHER INFORMATION CONTACT in section VI of this notice. If the Department provides an accommodation or auxiliary aid to an individual with a disability in connection with the application process, the individual's application remains subject to all other requirements and limitations in this notice.

Deadline for Intergovernmental Review: August 23, 2010.

D. Intergovernmental Review: This program is subject to Executive Order 12372 and the regulations in 34 CFR part 79. Information about Intergovernmental Review of Federal Programs under Executive Order 12372 is in the application package for each grant category in this competition.

E. Funding Restrictions: We reference regulations outlining funding restrictions in the Requirements and Applicable Regulations in section I of this notice.

F. Other Submission Requirements: An applicant must submit an original and one paper copy of its application for either grant category under this competition. An applicant may submit its application by mail or hand delivery. E-mailed applications will not be read.

If an applicant's application includes content that cannot be presented in a paper copy, the applicant may submit that content separately in one or more electronic files on a CD-ROM or DVD-ROM. The application content must reside on the CD-ROM or DVD-ROM; the Department will not review material in external references or links. The files may be in any of the following formats: .DOC/.DOCX (Microsoft Word Document), .PDF (Adobe Portable Document Format), .PPT/.PPTX (Microsoft Powerpoint), .HTML (Hypertext Markup Language), .JPEG (Joint Photographic Experts Group Image), .GIF (Graphics Interchange Format), .PNG (Portable Network Graphics), .TIFF (Tagged Image Format), .XLS/.XLSX (Microsoft Excel), .XML/.XSD (Extensible Markup Language/XML Schema), .CSV (Comma Separated Values), .TXT (Text File), and .ZIP (Compressed Package). If an applicant is submitting data files, it should include in its application a description or schema of the data elements within the files. If an applicant submits a file type other than the types specified in this paragraph, the Department will not review that material. Applicants should not password-protect these files. Each electronic file name should clearly identify the part of the application to which the content is responding. The CD-ROM or DVD-ROM should be clearly labeled with the applicant's name and any other relevant information. An applicant must provide 10 copies of any CD-ROM or DVD-ROM it submits with the original and paper copy of its application.

The Department must receive all applications by 4:30 p.m., Washington, DC time, on the application deadline date. We will not accept an application for this competition after 4:30 p.m., Washington, DC time, on the application deadline date. Therefore, we strongly recommend that applicants arrange for mailing or hand delivery of their applications in advance of the application deadline date.

(1) Submission of Applications by Mail. An applicant for either grant category may submit its application (i.e., the original and one paper copy of the application and, if necessary, 10 copies of an accompanying CD-ROM or DVD-ROM with any electronic files of application content that cannot be included in the original or paper copy of the application) by mail (either through the U.S. Postal Service or a commercial carrier). We must receive applications no later than 4:30 p.m., Washington, DC time, on the application deadline date. Therefore, to avoid delays, we strongly recommend sending applications via overnight mail. Mailed applications for Comprehensive Assessment Systems grants must be mailed to the Department at the following address: U.S. Department of Education, Application Control Center, Attention: (CFDA Number 84.395B), LBJ Basement Level 1, 400 Maryland Avenue, SW., Washington, DC 20202-4260. Mailed applications for High School Course Assessment Programs grants must be mailed to the Department at the following address: U.S. Department of Education, Application Control Center, Attention: (CFDA Number 84.395C), LBJ Basement Level 1, 400 Maryland Avenue, SW., Washington, DC 20202-4260.

If we receive an application after the application deadline, we will not consider that application.

(2) Submission of Applications by Hand Delivery. An applicant for either grant category may submit its application (i.e., the original and one paper copy of the application and, if necessary, 10 copies of an accompanying CD-ROM or DVD-ROM with any electronic files of application content that cannot be included in the original or paper copy of the application) by hand delivery (including via a courier service). We must receive applications no later than 4:30 p.m., Washington, DC time, on the application deadline date. Hand-delivered applications for Comprehensive Assessment Systems grants must be received at the following address: U.S. Department of Education, Application Control Center, Attention: (CFDA Number 84.395B), 550 12th Street, SW., Room 7041, Potomac Center Plaza, Washington, DC 20202-4260. Hand-delivered applications for High School Course Assessment Programs grants must be received at the following address: U.S. Department of Education, Application Control Center, Attention: (CFDA Number 84.395C), 550 12th Street, SW., Room 7041, Potomac Center Plaza, Washington, DC 20202-4260. The Application Control Center accepts hand deliveries daily between 8 a.m. and 4:30 p.m., Washington, DC time, except Saturdays, Sundays, and Federal holidays.

If we receive an application after the application deadline, we will not consider that application.

(3) Envelope Requirements and Receipt: When an applicant submits its application, whether by mail or hand delivery—

(a) It must indicate on the envelope that the CFDA number of the competition under which it is submitting its application is 84.395B (for Comprehensive Assessment Systems grants) or 84.395C (for High School Course Assessment Programs grants); and

(b) The Application Control Center will mail to the applicant a notification of receipt of the grant application. If the applicant does not receive this notification, it should call Joyce Mays at the U.S. Department of Education Application Control Center at (202) 245-6288.

In accordance with 34 CFR 75.216(b) and (c), an application will not be evaluated for funding if the applicant does not comply with all of the procedural rules that govern the submission of the application or the application does not contain the information required under the program.

Paperwork Reduction Act of 1995

The requirements and selection criteria established in this notice require the collection of information that is subject to review by the Office of Management and Budget (OMB) under the Paperwork Reduction Act of 1995 (44 U.S.C. 3501-3520). An emergency review has been requested in accordance with the Act (44 U.S.C. 3507(j)), since public harm is reasonably likely to result if normal clearance procedures are followed. Approval by OMB has been requested by April 5, 2010.

Burden Hour Estimates for Comprehensive Assessment Systems Grants: We estimate 4 applicants for Comprehensive Assessment Systems grants, and that each applicant would spend approximately 502.25 hours of staff time to address the application requirements and criteria, prepare the application, and obtain necessary clearances. The total number of hours for all applicants for Comprehensive Assessment Systems grants is an estimated 2,009 hours (4 applicants times 502.25 hours equals 2,009 hours).

Burden Hour Estimates for High School Course Assessment Programs Grants: We estimate 2 applicants for High School Course Assessment Programs grants, and that each applicant would spend approximately 363.25 hours of staff time to address the application requirements and criteria, prepare the application, and obtain necessary clearances. The total number of hours for all applicants for High School Course Assessment Programs grants is an estimated 726.5 hours (2 applicants times 363.25 hours equals 726.5 hours).

Total Cost Estimates: Across both grant categories, we estimate the average total cost per hour of the staff who carry out this work to be $30.00 an hour. The total estimated cost for all applicants under both grant categories would be $82,065 ($30.00 times 2,735.5 (2,009 + 726.5) hours equals $82,065).

IV. Application Review Information

A. Comprehensive Assessment Systems:

Selection Criteria: For the Comprehensive Assessment Systems category, we are establishing the following selection criteria for the FY 2010 grant competition only, in accordance with section 437(d)(1) of GEPA, 20 U.S.C. 1232(d)(1). Eligible applicants may receive up to 200 total points based on the extent to which their applications address these selection criteria. The number of points that may be awarded for each criterion is indicated in parentheses next to the criterion.

(A)(1) Consortium Governance (up to 20 points). The extent to which the consortium's proposed governance structure will enable the successful design, development, and implementation of the proposed assessment system. In determining the extent to which the consortium's proposed governance structure will enable the successful design, development, and implementation of the proposed assessment system, we will consider—

(a) The consortium's vision, goals, role, and key deliverables (e.g., assessment components, scoring and moderation system, professional development activities), and the consistency of these with the consortium's theory of action;

(b) The consortium's structure and operations, including—

(i) The organizational structure of the consortium and the differentiated roles that a member State may hold (e.g., lead State, governing State (as defined in this notice), advisory State);

(ii) For each differentiated role, the rights and responsibilities (including the level of commitment to adopting and implementing the assessment system) associated with the role;

(iii) The consortium's method and process (e.g., consensus, majority) for making different types of decisions (e.g., policy, operational);

(iv) The protocols by which the consortium will operate, including the protocols for member States to change roles or leave the consortium and for new member States to join the consortium;

(v) The consortium's plan, including the process and timeline, for setting key policies and definitions for the proposed assessment system, including a common set of college- and career-ready standards (as defined in this notice), a common set of performance level descriptors (as defined in this notice), a common set of achievement standards (as defined in this notice), common assessment administration procedures, common item release and test security policies, a common definition of “English learner,” and a common set of policies and procedures for accommodations (as defined in this notice) and student participation; and

(vi) The consortium's plan for managing funds received under this grant category;

(c) The terms and conditions of the Memoranda of Understanding or other binding agreements executed by each member State, including—

(i) The consistency of the terms and conditions with the consortium's governance structure and the State's role in the consortium; and

(ii) The State's commitment to and plan for identifying any existing barriers in State law, statute, regulation, or policy to implementing the proposed assessment system and to addressing any such barriers prior to full implementation of the summative assessment components of the system; and

(d) The consortium's procurement process, and evidence of each member State's commitment to that process.

(A)(2) Theory of Action (up to 5 points). The extent to which the eligible applicant's theory of action is logical, coherent, and credible, and will result in improved student academic outcomes. In determining the extent to which the theory of action has these attributes, we will consider the description of, and rationale for—

(a) Each component of the proposed assessment system and the relationship of the component to other components in the system;

(b) How the assessment results produced by each component will be used;

(c) How the assessments and assessment results will be incorporated into a coherent educational system (i.e., a system that includes standards, assessments, curriculum, instruction, and professional development); and

(d) How the educational system as a whole will improve student achievement and college- and career-readiness (as defined in this notice).

(A)(3) Assessment System Design (up to 55 points). The extent to which the design of the eligible applicant's proposed assessment system is innovative, feasible, and consistent with the theory of action. In determining the extent to which the design has these attributes, we will consider—

(a) The number and types of components (e.g., through-course summative assessments (as defined in this notice), end-of-year summative assessments, formative assessments, interim assessments) in mathematics and in English language arts in the assessment system;

(b) For the assessment system as a whole—

(i) How the assessment system will measure student knowledge and skills against the full range of the college- and career-ready standards, including the standards against which student achievement has traditionally been difficult to measure; and provide an accurate measure of student achievement, including for high- and low-performing students, and an accurate measure of student growth over a full academic year or course;

(ii) How the assessment system will produce the required student performance data (i.e., student achievement data and student growth data (both as defined in this notice) that can be used to determine whether individual students are college- and career-ready (as defined in this notice) or on track to being college- and career-ready (as defined in this notice));

(iii) How the assessment system will be accessible to all students, including English learners and students with disabilities, and include appropriate accommodations (as defined in this notice) for students with disabilities and English learners; and

(iv) How and when during the academic year different types of student data will be available to inform and guide instruction, interventions, and professional development; and

(c) For each component in mathematics and in English language arts in the assessment system—

(i) The types of data produced by the component, including student achievement data (as defined in this notice), student growth data (as defined in this notice), and other data;

(ii) The uses of the data produced by the component, including determining whether individual students are college- and career-ready (as defined in this notice) or on track to being college- and career-ready (as defined in this notice); informing determinations of school effectiveness for the purposes of accountability under Title I of the ESEA; informing determinations of individual principal and teacher effectiveness for the purposes of evaluation; informing determinations of principal and teacher professional development and support needs; informing teaching, learning, and program improvement; and other uses;

(iii) The frequency and timing of administration of the component, and the rationale for these;

(iv) The number and types of items (e.g., performance tasks, selected responses, brief or extended constructed responses) and the distribution of item types within the component, including the extent to which the items will be varied and elicit complex student demonstrations or applications of knowledge and skills (descriptions should include a concrete example of each item type proposed); and the rationale for using these item types and their distributions;

(v) The component's administration mode (e.g., paper-and-pencil, computer-based, or other electronic device), and the rationale for the mode;

(vi) The methods for scoring student performance on the component, the estimated turnaround times for scoring, and the rationale for these; and

(vii) The reports produced based on the component, and for each report, its intended use, target audience (e.g., students, parents, teachers, administrators, policymakers), and the key data it presents.

(A)(4) Assessment System Development (up to 35 points). The extent to which the eligible applicant's plan for developing the proposed assessment system will ensure that the assessment system is ready for wide-scale administration in a manner that is timely, cost-effective, and consistent with the proposed design and incorporates a process for ongoing feedback and improvement. In determining the extent to which the development plan has these attributes, we will consider—

(a) The approaches for developing assessment items (e.g., evidence centered design, universal design for learning ¹⁵) and the rationale for using those approaches; the development phases and processes to be implemented consistent with the approaches; and the types of personnel involved in each development phase and process (e.g., practitioners, content experts, assessment experts, experts in assessing English learners, experts in assessing students with disabilities, psychometricians, cognitive scientists, IHE representatives, career and technical education experts);

¹⁵ “Universal design for learning” is used as that term is defined in section 103(24) of the HEA.

(b) The approach and strategy for designing and developing accommodations (as defined in this notice), accommodation policies, and methods for standardizing the use of those accommodations for—

(i) English learners; and

(ii) Students with disabilities;

(c) The approach and strategy for ensuring scalable, accurate, and consistent scoring of items, including the approach and moderation system (as defined in this notice) for any human-scored items that are part of the summative assessment components and the extent to which teachers are trained and involved in the scoring of assessments;

(d) The approach and strategy for developing the reporting system; and

(e) The overall approach to quality control; and the strategy for field testing assessment items, accommodations, scoring systems, and reporting systems, including, with respect to assessment items and accommodations, the use of representative sampling of all types of student populations, taking into particular account high- and low-performing students and different types of English learners and students with disabilities.

(A)(5) Research and Evaluation (up to 30 points). The extent to which the eligible applicant's research and evaluation plan will ensure that the assessments developed are valid, reliable, and fair for their intended purposes and for all student subgroups. In determining the extent to which the research and evaluation plan has these attributes, we will consider—

(a) The plan for identifying and employing psychometric techniques suitable to verify, as appropriate to each assessment component, its construct, consequential, and predictive validity; external validity; reliability; fairness; precision across the full performance continuum; and comparability within and across grade levels; and

(b) The plan for determining whether the assessments are being implemented as designed and the theory of action is being realized, including whether the intended effects on individuals and institutions are being achieved.

(A)(6) Professional Capacity and Outreach (up to 15 points). The extent to which the eligible applicant's plan for implementing the proposed assessment system is feasible, cost-effective, and consistent with the theory of action. In determining the extent to which the implementation plan has these attributes, we will consider—

(a) The plan for supporting teachers and administrators in implementing the assessment system and for developing, in an ongoing manner, the professional capacity to use the assessments and results to inform and improve instructional practice; and

(b) The strategy and plan for informing the public and key stakeholders (including legislators and policymakers) in each member State about the assessment system and for building support for the system from the public and those stakeholders.

(A)(7) Technology Approach (up to 10 points). The extent to which the eligible applicant is using technology effectively to improve the quality, accessibility, cost-effectiveness, and efficiency of the proposed assessment system. In determining the extent to which the eligible applicant is using technology effectively, we will consider—

(a) The description of, and rationale for—

(i) The ways in which technology will be used in assessment design, development, administration, scoring, and reporting;

(ii) The types of technology to be used (including whether the technology is existing and commercially-available or is being newly developed); and

(iii) How other States or organizations can re-use in a cost-effective manner any technology platforms and technology components developed under this grant; and

(b) How technology-related implementation or deployment barriers will be addressed (e.g., issues relating to local access to Internet-based assessments).

(A)(8) Project Management (up to 30 points). The extent to which the eligible applicant's project management plan will result in implementation of the proposed assessment system on time, within budget, and in a manner that is financially sustainable over time. In determining the extent to which the project management plan has these attributes, we will consider—

(a) The quality, qualifications, and role of the project management partner, as evidenced by its mission, date of founding, size, experience (including past success in implementing similar projects), and key personnel assigned to this project (including their names, curricula vitae, roles, percent of time dedicated to this project, and experience in managing similar projects);

(b) The project workplan and timeline, including, for each key deliverable (e.g., assessment component, scoring and moderation system, professional development activities), the major milestones, deadlines, and entities responsible for execution; and the approach to identifying, managing, and mitigating risks associated with the project;

(c) The extent to which the eligible applicant's budget—

(i) Clearly identifies Level 1 budget modules (as defined in this notice) and any Level 2 budget modules (as defined in this notice);

(ii) Is adequate to support the development of an assessment system that meets the requirements of the absolute priority; and

(iii) Includes costs that are reasonable in relation to the objectives, design, and significance of the proposed project and the number of students to be served; and

(d) For each member State, the estimated costs for the ongoing administration, maintenance, and enhancement of operational assessments in the proposed assessment system and a plan for how the State will fund the assessment system over time (including by allocating to the assessment system funds for existing State or local assessments that will be replaced by assessments in the system).

B. High School Course Assessment Programs:

Selection Criteria: For the High School Course Assessment Programs category, we are establishing the following selection criteria for the FY 2010 grant competition only, in accordance with section 437(d)(1) of GEPA, 20 U.S.C. 1232(d)(1). Eligible applicants may receive up to 200 total points based on the extent to which their applications address these selection criteria. The total number of points that may be awarded for each criterion and the number of points that may be awarded for each factor within a criterion are indicated in parentheses next to the criterion or factor.

(B)(1) Consortium Governance (up to 30 points). The extent to which the consortium's proposed governance structure will enable the successful design, development, and implementation of the proposed high school course assessment program. In determining the extent to which the consortium's proposed governance structure will enable the successful design, development, and implementation of the proposed assessment program, we will consider—

(a) The consortium's vision, goals, role, and key deliverables (e.g., assessments, scoring and moderation system, certification system, professional development activities), and the consistency of these with the consortium's theory of action;

(b) The consortium's structure and operations, including—

(i) The organizational structure of the consortium and the differentiated roles that a member State may hold (e.g., lead State, governing State (as defined in this notice), advisory State);

(ii) For each differentiated role, the rights and responsibilities (including the level of commitment to adopting and implementing the assessment program) associated with the role;

(iii) The consortium's method and process (e.g., consensus, majority) for making different types of decisions (e.g., policy, operational);

(iv) The protocols by which the consortium will operate, including the protocols for member States to change roles or leave the consortium and for new member States to join the consortium;

(v) The key policies and definitions to which all member States will adhere, the rationale for choosing these policies and definitions, and the consortium's plan (including the process and timeline) for developing them; and

(vi) The consortium's plan for managing funds received under this grant category;

(c) The terms and conditions of the Memoranda of Understanding or other binding agreements executed by each member State, including the consistency of the terms and conditions with the consortium's governance structure and the State's role in the consortium; and

(d) The consortium's procurement process, and evidence of each member State's commitment to that process.

(B)(2) Theory of Action (up to 5 points). The extent to which the eligible applicant's theory of action is logical, coherent, and credible, and will result in improved academic outcomes for high school students across the States in the consortium. In determining the extent to which the theory of action has these attributes, we will consider the description of and rationale for—

(a) How the proposed high school course assessment program will be incorporated into a coherent high school educational system (i.e., a system that includes standards, assessments, curriculum, instruction, and professional development);

(b) How the assessment program's rigor will be demonstrated and maintained over time;

(c) How the assessment program will cover diverse course offerings that provide a variety of pathways to students; and

(d) How the assessment program will be implemented at a scale that, across the States in the consortium, increases access to rigorous courses for students who have not typically had such access, and broadly improves student achievement and college and career readiness (as defined in this notice).

(B)(3) Course Assessment Program Design and Development (up to 60 points). The extent to which the design and development of the eligible applicant's proposed high school assessment program is feasible, scalable, and consistent with the theory of action. In determining the extent to which the design has these attributes, we will consider—

(a) The high school courses for which the consortium will implement assessments; the rationale for selecting those courses, including a need to increase access to rigorous courses for students who have not typically had such access; and the processes by which new high school course assessments will be added to the assessment program over time and existing course assessments will be updated and refreshed;

(b) How the assessments will measure student knowledge and skills against standards from a common set of college- and career-ready standards (as defined in this notice) in subjects for which such a set of standards exists, or otherwise against State or other rigorous standards;

(c) How the consortium will certify the rigor of each assessment in the assessment program, whether the assessment is new or adapted; and how the consortium will maintain consistent and high levels of rigor over time; and

(d) The general design and development approach for course assessments, including—

(i) The number and types of components (e.g., mid-term tests, through-course summative assessments (as defined in this notice), end-of-course assessments) in a high school course assessment;

(ii) The extent to which, and, where applicable, the approach for ensuring that, assessment items will be varied and elicit complex student demonstrations or applications of knowledge and skills;

(iii) How the assessments will produce student achievement data (as defined in this notice) and student growth data (as defined in this notice);

(iv) The approach and strategy for ensuring scalable, accurate, and consistent scoring of assessments, and the extent to which teachers are trained and involved in the scoring of assessments; and

(v) How the course assessments will be accessible to the broadest possible range of students, including English learners and students with disabilities, and include appropriate accommodations (as defined in this notice) for students with disabilities and English learners.

(B)(4) Research and Evaluation (up to 25 points). The extent to which the eligible applicant's research and evaluation plan will ensure that the assessments developed are valid, reliable, and fair for their intended purposes and for all students. In determining the extent to which the research and evaluation plan has these attributes, we will consider—

(a) The plan for verifying validity, reliability, and fairness; and

(b) The plan for determining whether the assessments are being implemented as designed and the theory of action is being realized, including whether the intended effects on students and schools are being achieved.

(B)(5) Course Assessment Program Implementation (up to 45 points). The extent to which the eligible applicant's plan for implementing the proposed high school course assessment program will result in increased student enrollment in courses in the assessment program (and therefore improved student academic outcomes) in each member State. In determining the extent to which the implementation plan has these attributes, we will consider—

(a) The approach to be used in each member State for promoting participation in the high school course assessment program by high schools, by teachers, and by students (e.g., voluntary participation, mandatory participation, incentive programs); the plan for implementing the approach, including goals, major activities, timelines, and entities responsible for execution; and the expected participation levels in each member State and across the consortium overall, including—

(i) The number and percentage of high schools expected to implement at least one of the assessments in the high school course assessment program in each of five consecutive years beginning with the 2013-2014 school year;

(ii) For each assessment in the assessment program, the number and percentage of high schools expected to implement the assessment in each of five consecutive years beginning with the 2013-2014 school year; and

(iii) The unduplicated number and percentage of high school students expected to take at least one assessment in the assessment program in each of five consecutive years beginning with the 2013-2014 school year; and

(b) The plan for supporting teachers and administrators in implementing the high school course assessment program and for developing, in an ongoing manner, the professional capacity to use the assessments and results to inform and improve instructional practice.

(B)(6) Project Management (up to 35 points). The extent to which the eligible applicant's project management plan will result in implementation of the proposed high school course assessment program on time, within budget, and in a manner that is financially sustainable over time. In determining the extent to which the project management plan has these attributes, we will consider—

(a) The quality, qualifications, and role of the project management partner, as evidenced by its mission, date of founding, size, experience (including past success in implementing similar projects), and key personnel assigned to this project (including their names, curricula vitae, roles, percent of time dedicated to this project, and experience in managing similar projects);

(b) The project workplan and timeline, including, for each key deliverable (e.g., assessments, scoring and moderation system, certification system, professional development activities), the major milestones, deadlines, and entities responsible for execution;

(c) The extent to which the eligible applicant's budget—

(i) Is adequate to support the development of a high school assessment program that meets the requirements of the absolute priority;

(ii) Includes costs that are reasonable in relation to the objectives, design, and significance of the proposed project and the number of students to be served; and

(d) For each member State, the estimated costs for the ongoing administration, maintenance, and enhancement of operational assessments in the proposed assessment program and a plan for how the State will fund the assessment program over time (including by allocating to the assessment program funds for existing State or local assessments that will be replaced by assessments in the program).

C. Review and Selection Process: The Department will screen applications that are received in accordance with the requirements in this notice and determine which applications will be reviewed for funding based on whether the applicant has met the eligibility requirements for the grant category and has requested a budget amount that does not exceed the maximum amount for the grant category as discussed in the Award Information section of this notice (section II). Applications from applicants that do not meet the eligibility requirements for the grant category or that request a budget amount that exceeds the maximum amount for the grant category will not be reviewed for funding. Reviewers ¹⁶ will then review and score applications using the competitive preference priorities, selection criteria and points included in this notice, and determine whether applications meet the Absolute Priority for the grant category. Applications that do not meet the Absolute Priority will not be considered for funding. The reviewers' scores will be averaged for each application that meets the Absolute Priority for the grant category, and those applications will be rank ordered in each grant category. After the review process is complete, the Secretary will select, consistent with 34 CFR 75.217, the grantees for each grant category after considering the rank order of applications, the funding available, and any other relevant information.

¹⁶ The Department intends to use a panel of expert, independent reviewers who have been chosen from a pool of qualified assessment and management experts. The Department will thoroughly screen all reviewers for conflicts of interest in order to ensure a fair and competitive review process.

V. Award Administration Information

A. Award Notices: If an application is successful, the Department will notify the applicant's U.S. Representative and U.S. Senators and send the applicant a Grant Award Notification (GAN). We may also notify the applicant informally.

If an application is not evaluated or not selected for funding, we will notify the applicant.

B. Administrative and National Policy Requirements: We identify administrative and national policy requirements in the application package and reference these and other requirements in the Applicable Regulations in section I of this notice.

We reference the regulations outlining the terms and conditions of an award in the Applicable Regulations in section I of this notice and include these and other specific conditions in the GAN. The GAN also incorporates the approved application as part of the applicant's binding commitments under the grant.

C. Reporting: Grantees (i.e., applicants that receive an award) under this program must submit an annual performance report that provides the most current performance and financial expenditure information as directed by the Secretary under 34 CFR 75.118. The Secretary may require more frequent performance reports under 34 CFR 75.720(c). At the end of the project period, grantees must also submit a final performance report, including financial information, as directed by the Secretary.

Grantees under this program must also meet the reporting requirements that apply to all programs funded under the ARRA. Specifically, grantees must submit reports, within 10 days after the end of each calendar quarter, that contain the information required under section 1512(c) of the ARRA in accordance with any guidance issued by the Office of Management and Budget or the Department (ARRA Division A, Section 1512(c)).

In addition, for each year of the program, grantees must comply with the requirements of ARRA Division A, Section 14008, and other performance reporting that the Department may require.

The Department will monitor grantees' progress in meeting project goals, objectives, timelines, and budget requirements; and may require grantees to enter into a cooperative agreement with the Department.

D. Performance Measures: We are establishing the following Government Performance and Results Act of 1993 (GPRA) performance measures for the Race to the Top Assessment Program:

Comprehensive Assessment Systems Grants

The performance measures for Comprehensive Assessment Systems grants are:

1. Number of States that have formally adopted a common set of college- and career-ready standards in mathematics and English language arts;

2. Number of States that have fully implemented the summative assessment components of the assessment systems;

3. Number of IHEs that are working with grantees to design and develop the final high school summative assessments in mathematics and English language arts;

4. Number of IHEs that have implemented policies that exempt from remedial courses and place into credit-bearing college courses students who meet the achievement standard for the final high school summative assessments in mathematics and English language arts and any other placement requirements; and

5. Percentage of direct matriculation students (as defined in this notice) in public IHEs who are enrolled in IHEs that are working with grantees to design and develop the final high school summative assessments in mathematics and English language arts and/or have implemented policies that exempt from remedial courses and place into credit-bearing college courses students who meet the achievement standard for the final high school summative assessments in mathematics and English language arts.

High School Course Assessment Programs Grants

The performance measures for High School Course Assessment Programs grants are:

1. Number of courses for which assessments have been developed under the high school assessment programs;

2. Number of States implementing the high school course assessment programs;

3. Percentage of LEAs in each State implementing at least one assessment in the high school course assessment programs;

4. Percentage of high schools in each State implementing at least one assessment in the high school course assessment programs;

5. For each assessment in the high school course assessment programs, percentage of high schools in each State implementing the assessment;

6. Percentage of students in each State taking at least one assessment in the high school course assessment programs; and

7. Percentage of high schools in each State that incorporate courses in the high school course assessment programs into requirements for high school diplomas or certificates.

VI. Agency Contacts

For Further Information Contact: James Butler, U.S. Department of Education, 400 Maryland Avenue, SW., room 3C108, Washington, DC 20202-6400. Telephone: (202) 453-7246 or by e-mail: racetothetop.assessment@ed.gov.

If you use a TDD, call the FRS, toll free, at 1-800-877-8339.

VII. Other Information

Accessible Format: Individuals with disabilities can obtain this document and a copy of the application package in an accessible format (e.g., braille, large print, audiotape, or computer diskette) on request to the program contact person listed under For Further Information Contact in section VI of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 6, 2010.
Arne Duncan,
Secretary of Education.

[FR Doc. 2010-8176 Filed 4-8-10; 8:45 am]

BILLING CODE 4000-01-P